DEPARTMENT OF VETERANS AFFAIRS

Blue Ribbon Panel on VA-Medical School Affiliations; Notice of Meeting

The Department of Veterans Affairs (VA) gives notice under Public Law 92-463 (Federal Advisory Committee Act) that the Blue Ribbon Panel on VA-Medical School Affiliations has scheduled a meeting for September 21, 2007, in Room 542 at 1800 G Street, NW., Washington, DC from 8:30 a.m. until 2 p.m. The meeting is open to the public.

The purpose of the Panel is to advise the Secretary of Veterans Affairs, through the Under Secretary for Health, on issues related to a comprehensive philosophical framework to enhance VA's partnerships with medical schools and affiliated institutions.

The panelists will review VA's current affiliations with medical schools and will receive background presentations and issue papers on various topics that are relevant to the Panel's deliberations.

Interested persons may attend and present oral statements to the Panel. Oral presentations will be limited to five minutes or less, depending on the number of participants. Interested parties may also provide written comments for review by the Panel prior to the meeting or at any time, by e-mail to Gloria.Holland@va.gov or by mail to Gloria J. Holland, Ph.D. Special Assistant for Policy and Planning to the Chief Academic Affiliations Officer, 810 Vermont Avenue, NW., (14), Washington, DC 20420.

Dated: July 25, 2007.
By Direction of the Secretary.
E. Philip Riggin,
Committee Management Officer.

[FR Doc. 07-3714 Filed 7-30-07; 8:45 am]

BILLING CODE 8320-01-M